DEPARTMENT OF ENERGY

10 CFR Parts 1040 and 1042

RIN 1901-AA87

Nondiscrimination on the Basis of Sex in Education Programs or Activities Receiving Federal Financial Assistance

AGENCY: Department of Energy (DOE).

ACTION: Final rule; completion of regulatory review.

SUMMARY: In accordance with the memorandum of January 20, 2001, from the Assistant to the President and Chief of Staff, entitled “Regulatory Review Plan,” published in the Federal Register on January 24, 2001 (66 FR 7702), DOE temporarily delayed for 60 days (66 FR 8747, February 2, 2001) the effective date of the rule entitled “Nondiscrimination on the Basis of Sex in Education Programs or Activities Receiving Federal Financial Assistance” published in the Federal Register on January 18, 2001 (66 FR 4627). DOE has now completed its review of that regulation, and does not intend to initiate any further rulemaking action to modify its provisions.

DATES: The final rule published on January 18, 2001 (66 FR 4627) is effective April 23, 2001.

FOR FURTHER INFORMATION CONTACT: Isiah Smith, Jr., (202) 586-8618, Isiah.Smith @hq.doe.gov

Issued in Washington, D.C. on April 4, 2001.
Spencer Abraham,
Secretary of Energy.

[FR Doc. 01-8898 Filed 4-10-01; 8:45 am]

BILLING CODE 6450-01-P